DEPARTMENT OF HEALTH AND HUMAN SERVICES

Administration on Aging

2005 White House Conference on Aging

AGENCY: Administration on Aging, HHS.

ACTION: Notice of meeting.

SUMMARY: Pursuant to section 10(a) of the Federal Advisory Committee Act as amended (5 U.S.C. Appendix 2), notice is hereby given of the sixth Policy Committee meeting concerning planning for the 2005 White House Conference on Aging. The meeting will be open to the public, with attendance limited to space available. Individuals who plan to attend and need special assistance, such as sign language interpretation or other reasonable accommodations, should inform the contact person listed below in advance of the meeting. This notice is being published less than 15 days prior to the meeting due to scheduling problems.

DATES: The meeting will be held Wednesday, July 20, 2005, from 9 a.m. to 5 p.m.

ADDRESSES: The meeting will be held in the Hall of States at the National Guard Association of the United States, Inc., One Massachusetts Avenue, NW., Washington, DC 20001.

FOR FURTHER INFORMATION CONTACT: Kim Butcher, (301) 443-2887, or e-mail at Kim.Butcher@whcoa.gov. Registration is not required. Seating is on a first come, first-served basis.

SUPPLEMENTARY INFORMATION: Pursuant to the Older Americans Act Amendments of 2000 (Pub. L. 106-501, November 2000), the Policy Committee will meet to continue discussions and planning for the 2005 White House Conference on Aging. In addition, there will be presentations by Barbara D. Bovbjerg, Director, Education, Workforce, and Income Security, Government Accountability Office, Richard Jackson, Ph.D., Director and Senior Fellow, Global Aging Initiative, The Center for Strategic & International Studies, and Jon Pynoos, Ph.D., UPS Foundation Professor of Gerontology, Policy, Planning and Development Director, Division of Policy and Services Research, University of Southern California.

Dated: July 11, 2005.
Edwin L. Walker,
Deputy Assistant Secretary for Policy and Programs.

[FR Doc. 05-13849 Filed 7-13-05; 8:45 am]

BILLING CODE 4154-01-P